DEPARTMENT OF COMMERCE

International trade Administration

[A-570-880]

Antidumping Duty Order: Barium Carbonate from the People's Republic of China

AGENCY: Import Administration, International Trade Administration, Department of Commerce.

ACTION: Notice of Antidumping Duty Order.

EFFECTIVE DATE: October 1, 2003.

FOR FURTHER INFORMATION CONTACT: David Layton or Tisha Loeper-Viti at (202) 482-0371 or (202) 482-7425, respectively; AD/CVD Enforcement, Office 5, Group II, Import Administration, Room 1870, International Trade Administration, U.S. Department of Commerce, 14th Street and Constitution Avenue, NW, Washington, DC 20230.

SUPPLEMENTARY INFORMATION:

Background

On August 6, 2003, the Department of Commerce (the Department) published its final determination in the antidumping duty investigation of barium carbonate from the People's Republic of China (PRC). See Notice of Final Determination of Sales at Less Than Fair Value: Barium Carbonate from the People's Republic of China, 68 FR 46577 (August 6, 2003).

Scope of Order

The merchandise covered by this order is barium carbonate, regardless of form or grade. The product is currently classifiable under subheading 2836.60.0000 of the Harmonized Tariff Schedule of the United States (HTSUS). Although the HTSUS subheading is provided for convenience and customs purposes, the written description of the scope of this proceeding is dispositive.

Antidumping Duty Order

On September 19, 2003, in accordance with section 735(d) of the Tariff Act of 1930, as amended, (the Act), the International Trade Commission notified the Department of its final determination that the industry in the United States producing barium carbonate is materially injured within the meaning of section 735(b)(1)(A)(i) of the Act by reason of imports of the subject merchandise from the PRC.

Therefore, in accordance with section 736(a)(1) of the Act, the Department will direct the U.S. Bureau of Customs and Border Protection (BCBP) to assess, upon further advice by the Department, antidumping duties equal to the amount by which the normal value of the subject merchandise exceeds the export price or constructed export price of the subject merchandise for all relevant entries of barium carbonate from the PRC. The antidumping duties will be assessed on all (1) unliquidated entries of barium carbonate subject to this order, entered, or withdrawn from warehouse, for consumption on or after March 17, 2003, the date of publication of the Department's preliminary determination in the Federal Register¹, and before September 13, 2003; and (2) merchandise entered, or withdrawn from warehouse, for consumption on or after the date of publication of the ITC's notice of final determination in the Federal Register. The Department terminated the suspension of liquidation for entries of subject merchandise, pursuant to section 733(d) of the Act, on September 13, 2003. Entries of barium carbonate from the PRC made between September 13, 2003 and the day preceding the publication of the ITC's notice of final determination in the Federal Register, are not liable for the assessment of antidumping duties.

¹ See Notice of Preliminary Determination of Sales at Less Than Fair Value and Postponement of Final Determination: Barium Carbonate from the People's Republic of China, 68 FR 12664 (March 17, 2003).

On or after the date of publication of the ITC's notice of final determination in the Federal Register, the BCBP will require, at the same time as importers would normally deposit estimated duties, a cash deposit equal to the estimated weighted-average antidumping duty margins as noted below. The “PRC-Wide Rate” applies to all exporters of subject merchandise not specifically listed. The weighted-average dumping margins are as follows:

Manufacturer/exporter | Weighted-Average Margin (percent)
Qingdao Red Star Chemical Import & Export Co., Ltd. | 34.44%
PRC-Wide Rate | 81.30%

This notice constitutes the antidumping duty order with respect to barium carbonate from the PRC, pursuant to section 736(a) of the Act. Interested parties may contact the Department's Central Records Unit, Room B-099 of the Main Commerce Building, for copies of an updated list of antidumping duty orders currently in effect.

This order is issued and published in accordance with section 736(a) of Act and 19 CFR 351.211.

Dated: September 25, 2003.
James J. Jochum,
Assistant Secretary for Import Administration.

[FR Doc. 03-24901 Filed 9-30-03; 8:45 am]

BILLING CODE 3510-DS-S